DEPARTMENT OF JUSTICE

Notice of Lodging of Settlement Agreement Under the Oil Pollution Act (“OPA”)

Notice is hereby given that on November 4, 2005, a proposed Settlement Agreement in In re Equinox Oil Co., Inc., et al., Civil Action Nos. 99-12688 and 99-13071 was lodged with the United States Bankruptcy Court for the Eastern District of Louisiana.

The United States and the State of Louisiana (“State”) each filed a Proof of Claim in this jointly administered bankruptcy action, seeking natural resource damages, and the United States also sought removal costs paid by the Coast Guard to clean up oil that was discharged into the waters of Lake Grande Ecaille in Plaquemines Parish, Louisiana during a well blowout. The State and federal claims were authorized by the Oil Pollution Act (“OPA”). The well was owned by Alma Energy Corporation and operated by Equinox Oil Company, Inc. These companies filed for bankruptcy and subsequently were purchased by Elysium Energy, L.L.C. (“Elysium”), which assumed liability for these claims.

Under the Settlement Agreement, Elysium agreed to pay $1.2 million to resolve the United States' and the State's natural resource damage claims, including costs to implement restoration projects on property near the location of the oil spill, past assessment costs, and estimated future restoration costs. The Coast Guard's removal costs were paid earlier.

The Department of Justice will receive for a period of thirty (30) days from the date of this publication comments relating to the proposed Settlement Agreement. Comments should be addressed to the Assistant Attorney General, Environment and Natural Resources Division, PO Box 7611, U.S. Department of Justice, Washington, DC 20044-7611, and should refer to In re Equinox Oil Co., Inc., et al., D.J. Ref. No. 90-11-3-07003.

The Settlement Agreement may be examined during the public comment period on the following Department of Justice Web site: http://www.usdoj.gov/enrd/open.html. A copy of the Settlement Agreement may also be obtained by mail from the Consent Decree Library, PO Box 7611, U.S. Department of Justice, Washington, DC 20044-7611, or by faxing or e-mailing a request to Tonia Fleetwood (tonia.fleetwood@usdoj.gov), fax no. (202) 514-0097, phone confirmation number (202) 514-1547. In requesting a copy of the Settlement Agreement from the Consent Decree Library, please enclose a check in the amount of $6.75 (25 cents per page reproduction cost) payable to the U.S. Treasury.

Thomas A. Mariani, Jr.,
Assistant Section Chief, Environmental Enforcement Section, Environment and Natural Resources Division.

[FR Doc. 05-22739 Filed 11-15-05; 8:45 am]

BILLING CODE 4410-15-M